DEPARTMENT OF HOMELAND SECURITY

U.S. Customs and Border Protection

[OMB Control Number 1651-0NEW]

Agency Information Collection Activities; New Collection of Information; Global Interoperability Standards (GIS)

AGENCY: U.S. Customs and Border Protection (CBP), Department of Homeland Security.

ACTION: 30-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than February 13, 2025) to be assured of consideration.

ADDRESSES: Written comments and/or suggestions regarding the item(s) contained in this notice should be sent within 30 days of publication of this notice to www.reginfo.gov/public/do/PRAMain. Please submit written comments and/or suggestions in English. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (89 FR 71381) on September 3, 2024, allowing for a 60-day comment period. This notice allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Global Interoperability Standards (GIS)

OMB Number: 1651-0NEW.

Form Number: N/A.

Current Actions: New Collection of Information.

Type of Review: New Collection of Information.

Affected Public: Businesses.

Abstract: The Silicon Valley Innovation Program (SVIP), part of the Department of Homeland Security's Science and Technology Directorate, helps develop and find new technologies that strengthen national security with the goal of reshaping how government and industry work together to find cutting-edge solutions to problems such as those involved in pipeline-borne goods. Neoflow (a SVIP participant) has a platform (the Neoflow platform) to document the movement (including ownership changes) of crude oil. The Neoflow platform will monitor Canadian crude oil, a continuous flow commodity, using global interoperability standards (GIS) adopted by test participants who will supply and input the GIS data into the Neoflow platform where CBP will be able to view the data in near real time. GIS data utilizes decentralized identifiers (DIDs) and verifiable credentials (VCs) to help in identifying legitimate products and associated companies to build a transparent supply chain.

A transparent supply chain will be achieved in the Neoflow platform through the recordation of bi-lateral transaction data at each step in a supply chain, allowing for dynamic updates of ownership and destination information, securing supply chains from disclosure to unauthorized parties, and making this data available to CBP in near real time while creating an immutable chain of custody from wellhead to refinery.

If successful, the test could result in the ability to potentially eliminate all port-level paper processes as well as create an automation environment in which pre-arrival data collection, in-bond tracking, and Free Trade Agreement compliance traceability no longer pose issues.

Therefore, the purpose of the test is to measure the usefulness and accuracy of the Neoflow platform's GIS with a view toward resolving any issues prior to determining next steps (which could include implementing new policies and regulations leading to the integration of GIS data with the Automated Commercial Environment (ACE) for Canadian crude oil and other pipeline commodities for entry purposes). The test will be limited to pipeline oil products coming from Canada but may be expanded in the future to other commodities upon successful implementation of the test.

This collection of information is authorized by 19 U.S.C. 1411 National Customs Automation Program.

Type of Information Collection: Non-Standard PDF.

Estimated Number of Respondents: 24.

Estimated Number of Annual Responses per Respondent: 12.

Estimated Number of Total Annual Responses: 288.

Estimated Time per Response: 4 hours.

Estimated Total Annual Burden Hours: 1,152.

Dated: January 7, 2025.
Seth D Renkema,
Branch Chief, Economic Impact Analysis Branch, U.S. Customs and Border Protection.

[FR Doc. 2025-00523 Filed 1-13-25; 8:45 am]

BILLING CODE 9111-14-P